ENVIRONMENTAL PROTECTION AGENCY

[FRL-7413-7]

EPA Science Advisory Board Staff Office Invitation To Solicit Public Input Concerning Prospective EPA Science Advisory Board Reorganization and Structural Changes

Summary: The Environmental Protection Agency's (EPA or Agency) Science Advisory Board (SAB or Board) is inviting members of the public to register and attend a public session wherein the Board will solicit public input on the SAB's prospective reorganization and structural changes; or, for persons unable to attend, to contribute information on this topic via e-mail. Although the SAB is subject to the procedural requirements of the Federal Advisory Committee Act (FACA), as amended (5 U.S.C. App.), for its advisory committee meetings, the purpose of this session is to obtain information from individual attendees and not from the participants as a whole; therefore, the provisions of FACA do not apply to this session.

The session will be held at the Sheraton Crystal City Hotel, 1800 Jefferson Davis Highway, Arlington, Virginia, 22202, on Wednesday, December 4, 2002, from 9:30 am to 12 pm. The Sheraton Crystal City Hotel main telephone number is: (703) 486-1111. The session is open to members of the public. However, due to limited space, participation will be on a first-come basis. Therefore, members of the public are requested to register in advance. Members of the public who cannot attend in person are encouraged to submit written comments. For further information concerning this session, including procedures both for registration and submitting written comments to the EPA Science Advisory Board Staff Office, please see below.

Purpose: The Reorganization Sub-Committee of the SAB Executive Committee is soliciting public input concerning prospective EPA Science Advisory Board reorganization and structural changes. The Sub-Committee will consider the comments and input received in this public process, as well as written comments received in response to this notice, as it develops and evaluates possible options to enhance the ability of the SAB to carry out its critical mission even more effectively and efficiently. Please note that this effort is not focused on “operational” SAB issues such as the revised panel formation process and the updating of the Board's policies and procedures, both of which are being carried out in parallel.

Background: The SAB was established by the Congress in 1978 by the Environmental Research, Development, and Demonstration Authorization Act (ERDDAA) (42 U.S.C. 4365). Composed of non-Federal government experts, the Board provides independent advice and peer review to EPA's Administrator on the scientific and technical aspects of environmental problems and issues. The Board's independently-chartered Clean Air Scientific Advisory Committee (CASAC) and Advisory Committee on Clean Air Compliance Analysis (COUNCIL) also provide independent scientific and technical advice as required by the Clean Air Act Amendments of 1977 and the Clean Air Act Amendments of 1990, respectively. While the Board reports to the Administrator, it may also be requested to provide advice to U. S. Senate Committees and Subcommittees and U.S. House Committees and Subcommittees, as appropriate.

Since being established in 1978, the SAB has doubled in size (from five to ten standing committees) and in membership (from some 50 members to more than 110 members and 380 expert consultants). To supplement its standing and chartered committees, the Board forms numerous ad hoc panels that look into areas of special interest, all of which provide continuity to areas of scientific study that are relevant to the Agency. These changes in size and organization have come about in response to legislation and the needs of the EPA Administrator, and also as a result of the expanding mission of the Board.

Although the mission of the Board and its overall size have increased substantially in the last 25 years, both the structure of the Board and the procedures by which the SAB conducts reviews have remained essentially the same. Accordingly, there is a crucial need to evaluate the current structure, organization and composition of the Board to ascertain whether improvements in these areas can enhance the Board's ability to carry out its critical mission even more effectively and efficiently. The SAB's Executive Committee, under the leadership of its Chair, Dr. William Glaze, has recently established the Reorganization Sub-Committee for this purpose.

Specific Format and Topics for the December 4, 2002 Session: A draft agenda for the session will be posted on or about December 2, 2002 on the EPA Science Advisory Board Web site at: http://www.epa.gov/sab. The session will be specifically designed to solicit public input on the following two broad questions pertaining to the organization and structure of the SAB:

1. Overall, how well has EPA's Science Advisory Board fulfilled its mission—and what are some ways in which it could improve?

2. What type of SAB structure and substructures are needed to fulfill the SAB roles and be flexible enough to meet future needs of EPA?

Other public input relevant to the matters of SAB reorganization and structural changes will also be discussed, and accepted at, this December 4, 2002, session. Input on operational or procedural aspects of the Board are not being solicited at this session.

Registration for the December 4, 2002 Session: Persons wishing to attend this public session should register by Friday, November 29, 2002, by contacting Ms. Sandra Vincze at telephone (703) 534-1629 or via e-mail at svincze@mgtech-world.com. Please include the following information: name, title, organization, telephone number, fax number, and e-mail address.

Provision of Written Comments by Individuals Unable to Attend the December 4, 2002 Session: Persons unable to attend the public session who wish to provide written comments on the specific topics identified above may send those comments to Mr. Fred Butterfield of the Science Advisory Board Staff via email at butterfield.fred@epa.gov. Written comments received prior to 12 noon Eastern time on December 3, 2002, will be included in the discussion at this public session.

Session Access: Individuals requiring special accommodation at this session, including wheelchair access to the conference room, should contact Ms. Sandra Vincze at telephone (703) 534-1629 or via e-mail at svincze@mgtech-world.com at least two business days prior to the session (i.e., by 5:00 p.m. on Friday, November 29, 2002) so that appropriate arrangements can be made.

General and Additional Information: Members of the public desiring additional information about the session on December 4, 2002, should contact Mr. Fred Butterfield, Designated Federal Officer, EPA Science Advisory Board (1400A), Suite 6450, U.S. EPA, 1200 Pennsylvania Avenue, NW, Washington, DC 20460; telephone/voice mail (202) 564-4561; fax (202) 501-0323; or e-mail butterfield.fred@epa.gov. Additional information on session logistics can be obtained by contacting Ms. Sandra Vincze at telephone (703) 534-1629 or via e-mail at svincze@mgtech-world.com.

Further information concerning the EPA Science Advisory Board, including its structure, function, and composition, may be found on the EPA SAB Web site at: http://www.epa.gov/sab; and in the EPA Science Advisory Board FY2001 Annual Staff Report, which is available from the EPA SAB Publications Staff at phone (202) 564-4533; via fax at: (202) 501-0256; or on the SAB Web site at http://www.epa.gov/sab/annreport01.pdf.

Dated: November 19, 2002.
Vanessa T. Vu,
Director, EPA Science Advisory Board Staff Office.

[FR Doc. 02-29976 Filed 11-25-02; 8:45 am]

BILLING CODE 6560-50-P